DEPARTMENT OF JUSTICE

Notice of Lodging of Proposed Consent Decree Under the Clean Air Act

On December 1, 2022, the Department of Justice lodged a proposed consent decree with the United States District Court for the Northern District of Ohio in the lawsuit entitled United States v. Republic Steel, Civil Action No 5:22-cv-02163.

The United States filed this lawsuit under the Clean Air Act. The United States' complaint names Republic Steel as the defendant. The complaint seeks injunctive relief and civil penalties for violations of the regulations that govern the emission limits, performance testing, and parametric monitoring and recording as required under the defendant's 2004 Permit to Install for its steel manufacturing facility in Canton, Ohio. The consent decree requires the defendant to perform injunctive relief, including addition of air pollutant emission controls, and pay a $990,000 million civil penalty.

The publication of this notice opens a period for public comment on the proposed consent decree. Comments should be addressed to the Assistant Attorney General, Environment and Natural Resources Division, and should refer to United States v. Republic Steel, D.J. Ref. No. 90-5-2-1-12589. All comments must be submitted by no later than January 13, 2023. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $11.50 (25 cents per page reproduction cost) payable to the United States Treasury.

Patricia McKenna,
Assistant Section Chief, Environmental Enforcement Section, Environment and Natural Resources Division.

[FR Doc. 2022-26655 Filed 12-7-22; 8:45 am]

BILLING CODE P